DEPARTMENT OF ENERGY

Federal Energy Regulatory Commission

[Docket No. EL16-89-000]

Virginia Electric and Power Company; Notice of Institution of Section 206 Proceeding and Refund Effective Date

On July 28, 2016, the Commission issued an order in Docket No. EL16-89-000, pursuant to section 206 of the Federal Power Act (FPA), 16 U.S.C. 824e (2012), instituting an investigation into the justness and reasonableness of certain aspects of Virginia Electric and Power Company's Reactive Service rates. Virginia Electric and Power Company, 156 FERC ¶ 61,072 (2016).

The refund effective date in Docket No. EL16-89-000, established pursuant to section 206(b) of the FPA, will be the date of publication of this notice in the Federal Register.

Dated: July 29, 2016.
Nathaniel J. Davis, Sr.,
Deputy Secretary.

[FR Doc. 2016-18495 Filed 8-3-16; 8:45 am]

BILLING CODE 6717-01-P